DEPARTMENT OF DEFENSE

United States Marine Corps

Privacy Act of 1974; System of Records

AGENCY: United States Marine Corps, DoD.

ACTION: Notice to delete records systems.

SUMMARY: The U.S. Marine Corps (USMC) is deleting two systems of records notices from its inventory of records systems subject to the Privacy Act of 1974, as amended (5 U.S.C. 552a).

DATES: The deletion will be effective on October 25, 2004 unless comments are received that would result in a contrary determination.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended, have been published in the Federal Register and are available from the address above.

The U.S. Marine Corps proposes to delete two systems of records notices from its inventory of record systems subject to the Privacy Act of 1974 (5 U.S.C. 552a), as amended. The deletions are not within the purview of subsection (r) of the Privacy Act of 1974 (5 U.S.C. 552a), as amended, which requires the submission of new or altered systems reports.

Dated: September 17, 2004.
L.M. Bynum,
Alternate OSD Federal Register Liaison Officer, Department of Defense.

MMN00002

System name:

Listing of Retired Marine Corps Personnel (August 17, 1999, 64 FR 44698).

Reason:

Records are now under the cognizance of the Defense Finance and Accounting Service (DFAS) and are being maintained under the DFAS Privacy Act system of records notice T7347b, entitled ‘Defense Military Retiree and Annuity Pay System’.

MMN00016

System name:

Accident and Injury Reporting System (April 26, 2002, 67 FR 20746).

Reason:

Records are now being maintained under the Department of the Navy Privacy Act system of records NM05100-4, entitled ‘WESS Occupational>Injuries/Illnesses System’. This notice applies to all organizational elements of the Department of the Navy (DON), including the Marine Corps.

[FR Doc. 04-21326 Filed 9-22-04; 8:45 am]

BILLING CODE 5001-06-M